DEPARTMENT OF THE INTERIOR

Bureau of Land Management

[234 LLUTY01000 L17110000.PN0000 LXSSJ0650000]

Notice of Public Meeting, Bears Ears National Monument Advisory Committee, Utah

AGENCY: Bureau of Land Management, Interior.

ACTION: Notice of public meeting.

SUMMARY: In accordance with the Federal Land Policy and Management Act, as amended, the Federal Advisory Committee Act, and the Federal Lands Recreation Enhancement Act, the U.S. Department of the Interior, Bureau of Land Management's (BLM's) Bears Ears National Monument Advisory Committee will meet as indicated below.

DATES: The Bears Ears National Monument Advisory Committee will hold an in-person field tour on June 22, 2023, and an in-person meeting with a virtual participation option on Nov. 8, 2023. The meeting and field tour are open to the public, but advance registration is required to attend the June 22 field tour.

ADDRESSES: The June field tour will include stops at multiple locations within Bears Ears National Monument. Members of the public who register in advance and Committee members will meet at the USDA Forest Service Monticello Ranger Station located at 397 North Main in Monticello, UT 84535, at 7:30 a.m. on June 22, 2023. The field tour will end at approximately 5 p.m. The Nov. 8, 2023, meeting will be held in-person at the Hideout located at 648 South Hideout Way, Monticello, UT 84535. The meeting will take place from 9 a.m. to approximately 4 p.m. Agendas and virtual meeting access information will be announced on the Bears Ears National Monument Advisory Committee web page 30 days before the meeting at www.blm.gov/benm-mac.

FOR FURTHER INFORMATION CONTACT: Rachel Wootton, Canyon Country District Public Affairs Officer, P.O. Box 7, Monticello, Utah 84535, via email with the subject line “BENM MAC” to blm_ut_mt_mail@blm.gov, or by calling the Monticello Field Office at (435) 587-1500. Members of the public planning to attend the June 22, 2023, meeting must register in advance by emailing BLM_UT_Monticello_Monuments@blm.gov at least seven calendar days prior to the meeting stating their interest. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Presidential Proclamation 9558 and Presidential Proclamation 10285 established the Bears Ears National Monument Advisory Committee to provide advice and information to the Secretary of the Interior through the Director of the BLM, and to the Secretary of the U.S. Department of Agriculture (USDA) through the Chief of the USDA Forest Service, to consider for managing the Bears Ears National Monument. The 15-member Committee represents a wide range of interests including State and local government, paleontological and archaeological expertise, the conservation community, livestock grazing permittees, Tribal members, developed and dispersed recreation interests, private landowners, local business owners, and the public at large.

Planned agenda items for the June field tour include visits to multiple locations within Bears Ears National Monument to discuss site conditions, history, monument resources, and management. Attendance will be limited to the first 20 members of the public who register. Participating members of the public must provide their own transportation, water, food, and any other necessary items to participate in outdoor activities safely and comfortably. Members of the public are also encouraged to carpool. Visit locations may change depending on weather and other conditions.

Planned agenda items for the November meeting include an overview of the planning efforts to-date, discussion of management alternatives included in the draft Bears Ears National Monument Resource Management Plan, and general management and administrative updates.

A public comment period will be offered during the November meeting at 1:15 p.m. Depending on the number of people wishing to comment and the time available, the time for individual comments may be limited. Written comments may also be sent to the Monticello Field Office at the address listed in the FOR FURTHER INFORMATION CONTACT section of this notice. All comments received prior to the meeting will be provided to the Committee.

Please make requests in advance for sign language interpreter services, assistive listening devices, or other reasonable accommodations. We ask that you contact the person listed under FOR FURTHER INFORMATION CONTACT, at least seven days prior to the meeting to give the Department of the Interior sufficient time to process your request. All reasonable accommodation requests are managed on a case-by-case basis.

Before including your address, phone number, email address, or other personal identifying information in your comment, you should be aware that your entire comment—including your personal identifying information—may be made publicly available at any time. While you can ask us in your comment to withhold your personal identifying information from public review, we cannot guarantee that we will be able to do so.

Detailed minutes for Bears Ears National Monument Advisory Committee meetings will be maintained in the Canyon Country District Office and will be available for public inspection and reproduction during regular business hours within 90 days following the meeting. Minutes will also be posted to the Committee's web page.

Authority: 5 U.S.C. ch. 10.

Gregory Sheehan,
State Director.

[FR Doc. 2023-08821 Filed 4-26-23; 8:45 am]

BILLING CODE 4331-25-P